DEPARTMENT OF ENERGY

Hawaii Clean Energy Draft Programmatic Environmental Impact Statement

AGENCY: U.S. Department of Energy.

ACTION: Notice of availability and public hearings.

SUMMARY: The U.S. Department of Energy (DOE) announces the availability of the Hawaii Clean Energy Draft Programmatic Environmental Impact Statement (Hawaii Clean Energy Draft PEIS or Draft PEIS) (DOE/EIS-0459). DOE also announces eight public hearings to receive comments on the Draft PEIS. The Draft PEIS evaluates the potential environmental impacts associated with 31 energy efficiency activities and renewable energy technologies that could assist the State of Hawaii in meeting the goals established under the Hawaii Clean Energy Initiative (HCEI).

DATES: DOE invites comments on the Draft PEIS during a 90-day period, which ends July 17, 2014. Comments submitted after this date will be considered to the extent practicable during preparation of the Hawaii Clean Energy Final PEIS. The Department will hold eight public hearings at the locations, dates, and times listed in SUPPLEMENTARY INFORMATION below.

ADDRESSES: Comments on the Draft PEIS may be submitted:

• Orally or in writing at a public hearing.

• By email to hawaiicleanenergypeis@ee.doe.gov.

• Through the PEIS Web site at http://hawaiicleanenergypeis.com.

• By mail to Dr. Jane Summerson, Hawaii Clean Energy PEIS Document Manager, DOE NNSA, POB 5400 Bldg 401, KAFB East, Albuquerque, NM 87185.

FOR FURTHER INFORMATION CONTACT: For additional information on the Hawaii Clean Energy Draft PEIS, contact Dr. Jane Summerson at the address above or send an email to hawaiicleanenergypeis@ee.doe.gov. For general information regarding the DOE National Environmental Policy Act (NEPA) process, contact: Ms. Carol M. Borgstrom, Director, Office of NEPA Policy and Compliance (GC-54), U.S. Department of Energy, 1000 Independence Ave. SW., Washington, DC 20585, telephone 202-586-4600 or leave a message at 800-472-2756.

SUPPLEMENTARY INFORMATION:

Background

DOE and Hawaii entered into a Memorandum of Understanding (MOU) in January 2008 that established a long-term partnership to assist Hawaii in its efforts to transform the way in which energy efficiency and renewable energy resources are planned and used in the State. The MOU established working groups to address key sectors of the energy economy (e.g., electricity, end-use efficiency, transportation, and fuels), which led to the establishment of the Hawaii Clean Energy Initiative (HCEI). A goal of the HCEI is to meet 70 percent of Hawaii's energy needs by 2030 through energy efficiency and renewable energy (collectively “clean energy”).

PEIS Scoping

On December 14, 2010, DOE issued a notice of intent to prepare a PEIS, with the State of Hawaii as a joint lead, on the wind phase of the Hawaii Interisland Renewable Energy Program (75 FR 77859). In light of scoping comments and regulatory and policy developments, DOE broadened the range of reasonable energy efficiency and renewable energy activities and technologies to be analyzed in the PEIS and issued an amended notice of intent to prepare the Hawaii Clean Energy PEIS (77 FR 47828; August 10, 2012). In preparing the PEIS, DOE considered scoping comments received on the initial and amended notices of intent.

The Hawaii Clean Energy Draft PEIS was prepared with the following cooperating agencies: State of Hawaii (Department of Business, Economic Development and Tourism), U.S. Environmental Protection Agency Region 9, Bureau of Ocean Energy Management, National Park Service, Natural Resources Conservation Service, U.S. Marine Corps, U.S. Navy, and Federal Aviation Administration.

Purpose and Need for Agency Action

The purpose and need for DOE's action is based on the 2008 MOU with the State of Hawaii that established the long-term HCEI partnership. Consistent with this MOU, DOE's purpose and need is to support the State of Hawaii in its efforts to meet 70 percent of the State's energy needs by 2030 through clean energy. DOE's primary purpose in preparing this PEIS is to provide information to the public, Federal and State agencies, and future energy developers on the potential environmental impacts of a wide range of energy efficiency activities and renewable energy technologies that could support the HCEI. This environmental information could be used by decisionmakers, developers, and regulators in determining the best activities and technologies to meet future energy needs. The public could use this PEIS to better understand the types of potential impacts associated with the various technologies.

Proposed Action

DOE's Proposed Action is to develop guidance that can be used in making decisions to support the State of Hawaii in achieving the HCEI's goals.

For the Hawaii Clean Energy Draft PEIS, DOE and the State of Hawaii identified 31 clean energy technologies and activities associated with potential future actions and grouped them into five clean energy categories:

• Energy efficiency,

• Distributed renewable energy technologies,

• Utility-scale renewable energy technologies,

• Alternative transportation fuels and modes, and

• Electrical transmission and distribution.

For each activity or technology, the Draft PEIS identifies potential impacts to 17 environmental resource areas and potential best management practices that could be used to minimize or prevent those potential environmental impacts.

Document Availability

The Hawaii Clean Energy Draft PEIS is posted at http://hawaiicleanenergypeis.com and http://energy.gov/nepa/eis-0459-hawaii-clean-energy-programmatic-environmental-impact-statement. To obtain a compact disk (CD) of the Draft PEIS, contact Dr. Summerson at the address under ADDRESSES above, online at http://hawaiicleanenergypeis.com, or by email to hawaiicleanenergypeis@ee.doe.gov. Printed copies of the complete PEIS are available at:

• Hawaii State Library, 478 South King Street, Honolulu, HI 96813.

• Lanai Public and School Library, 555 Fraser Ave, Lanai City, HI 96763.

• Wailuku Public Library, 251 High Street, Wailuku, HI 96793.

• Molokai Public Library, 15 Ala Malama, Kaunakakai, HI 96748.

• Hilo Public Library, 300 Waianuenue Ave, Hilo, HI 96720.

• Kailua-Kona Public Library, 75-138 Hualalai Road, Kailua-Kona, HI 96740.

• Lihue Public Library, 4344 Hardy Street, Lihue, HI 96766.

• Kaneohe Public Library, 45-829 Kamehameha Highway, Kaneohe, HI 96744.

DOE will provide a printed copy of the Summary or complete Draft PEIS upon request. However, due to the size of the document (approximately 60 pages for the Summary and 1,300 pages for the complete Draft PEIS), DOE recommends that interested parties take advantage of the download or CD options. If a printed copy is required, contact Dr. Jane Summerson at the address above or by email to hawaiicleanenergypeis@ee.doe.gov.

Public Hearings

The Department invites interested parties to provide comments on the Draft PEIS at public hearings to be held May 12 through May 22, 2014, at:

• May 12: Kauai, Kauai War Memorial, Convention Hall, 4191 Hardy Street, Lihue, HI 96766.

• May 13: Hawaii, Kealakehe High School, 74-5000 Puohulihuli Street, Kailua-Kona, HI 96740.

• May 14: Hawaii, Aunty Sally Kaleohano's Luau Hale, 799 Piilani Street, Hilo, HI 96720.

• May 15: Maui, Pomaikai Elementary School, 4650 South Kamehameha Avenue, Kahului, HI 96732.

• May 19: Molokai, Kaunakakai Elementary School, 30 Ailoa Street, Kaunakakai, HI 96748.

• May 20: Lanai, Lanai High & Elementary School, 555 Fraser Avenue, Lanai City, HI 96763.

• May 21: Oahu, Kawananakoa Middle School, 49 Funchal Street, Honolulu, HI 96813.

• May 22: Oahu, James B. Castle High School, 45-386 Kaneohe Bay Drive, Kaneohe, HI 96744.

Each hearing will begin at 5:00 p.m. and end at 8:30 p.m. Each hearing will start with an open house (5:00-5:45), when Federal and State personnel and their contractors will be available to answer questions in an informal setting. The open house will be followed by a presentation (5:45-6:00) by Dr. Summerson, who will describe the PEIS, the NEPA process, and the methods that can be used to submit comments. During the remainder of the hearing, interested parties may present oral comments to DOE. A court reporter will transcribe the comments presented at each hearing. Individuals wishing to speak at a hearing should register when they arrive. DOE will initially allot three minutes to each commenter to ensure that as many people as possible have the opportunity to speak. More time may be provided, as circumstances permit. Written comments may be submitted at the hearing or by the other methods described in ADDRESSES above. DOE will give equal consideration to oral and written comments in preparing the Hawaii Clean Energy Final PEIS.

Issued in Washington, DC, April 14, 2014.
Patricia A. Hoffman,
Assistant Secretary, Office of Electricity Delivery and Energy Reliability.

[FR Doc. 2014-08848 Filed 4-17-14; 8:45 am]

BILLING CODE 6450-01-P